ENVIRONMENTAL PROTECTION AGENCY

[FRL-7125-9]

Environmental Laboratory Advisory Board (ELAB), Nominees, Meeting Dates, and Agenda

AGENCY: Environmental Protection Agency.

ACTION: Notice, correction.

SUMMARY: The Environmental Protection Agency published a document in the Federal Register on November 9, 2001 (66 FR 56675). The Date of the ELAB meeting has been changed. The Environmental Protection Agency (EPA) is soliciting nominees to serve on the Environmental Laboratory Advisory Board (ELAB). Nominees are being sought to fill vacancies in the following category: Field Testing. Terms of service will commence upon selection and terminate on July 27, 2003. Application forms must be submitted to provide information on experience, abilities, stakeholder interest, organizational description, and references. A copy of the application form can be obtained on the Internet (see address below).

The date for the Environmental Laboratory Advisory Board of Directors meeting has been changed to 3 PM to 6 PM on December 4, 2001 and the meetings scheduled on December 6 and 7 have been canceled. The ELAB meeting will be held at the Crystal Gateway Marriott at 1700 Jefferson Davis Highway, Arlington VA. At this meeting the ELAB board will discuss issues, ideas, and opinions previously submitted and time permitting, will take comments and questions from the public. ELAB is soliciting input from the public on issues related to the NELAC environmental laboratory accreditation program and NELAC standards. The agenda of the ELAB December 4 meeting will be based on input gathered from written comments as well as a review of recommendations and activities from earlier Board meetings.

Written comments on NELAC laboratory accreditation and standards are encouraged and should be sent to Edward Kantor DFO, PO Box 93478, Las Vegas NV 89193, or can be faxed to (702) 798-2261 or E-mailed to kantor.edward@epa.gov. ELAB nominee applications can be found at http://www.epa.gov/ttn/nelac/arcmisc.html and should be mailed, faxed, or E-mailed to the addresses previously given.

http://www.epa.gov/ttn/nelac/arcmisc.html

Dated: November 8, 2001.
John G. Lyon,
Director, Environmental Sciences Division, National Environmental Research Laboratory.

[FR Doc. 02-221 Filed 1-3-02; 8:45 am]

BILLING CODE 6560-50-P